DEPARTMENT OF STATE

[Public Notice 7856]

Waiver and Certification of Statutory Provisions Regarding the Palestine Liberation Organization Office

Pursuant to the authority vested in me as Deputy Secretary of State, including by section 7086(b)(1) of the Department of State, Foreign Operations, and Related Programs Appropriations Act, 2012 (Pub. L. 112-74, Div. I), the Delegation of Authority in the President's Memorandum of July 21, 2010, and Department of State Delegation of Authority No. 245-1, I hereby determine and certify that the Palestinians have not, since the date of enactment of that Act, obtained in the UN or any specialized agency thereof the same standing as member states or full membership as a state outside an agreement negotiated between Israel and the Palestinians, and waive the provisions of section 1003 of the Anti-Terrorism Act of 1987, Public Law 100-204, Title X.

This waiver shall be effective for a period of six months.

This determination shall be reported to the Congress promptly and published in the Federal Register.

Dated: April 9, 2012.
William J. Burns,
Deputy Secretary of State.

[FR Doc. 2012-9932 Filed 4-24-12; 8:45 am]

BILLING CODE 4710-31-P